CIVIL RIGHTS COMMISSION

Sunshine Act Meeting Notice

AGENCY: United States Commission on Civil Rights.

ACTION: Notice of Commission Public Business meeting.

DATES: Friday, August 17, 2018, 10:00 a.m. EST.

ADDRESSES: Place: National Place Building, 1331 Pennsylvania Ave. NW, 11th Floor, Suite 1150, Washington, DC 20425. (Entrance on F Street NW.)

FOR FURTHER INFORMATION CONTACT: Brian Walch: (202) 376-8371; TTY: (202) 376-8116; publicaffairs@usccr.gov.

SUPPLEMENTARY INFORMATION: This business meeting is open to the public. There will also be a call-in line for individuals who desire to listen to the presentations: 877-260-1479; Conference ID 3752191. The event will also live-stream at https://www.youtube.com/user/USCCR/videos. (Please note that streaming information is subject to change.) Persons with disabilities who need accommodation should contact Pamela Dunston at (202) 376-8105 or at access@usccr.gov at least seven (7) business days before the scheduled date of the meeting.

Meeting Agenda

I. Approval of Agenda

II. Business Meeting

A. Presentation by Maine Advisory Committee Chair on the Committee's recently released report, Voting Rights in Maine

B. Presentation by Arizona Advisory Committee Chair on the Committee's recently released report, Voting Rights in Arizona

C. Discussion and Vote on Commission report, An Examination of Excessive Force and Modern Policing Practices

D. Discussion and Vote on Commission report, Contemporary Civil Rights Challenges: A View from the States, 2018 Survey of the State Advisory Committees to the U.S. Commission on Civil Rights

E. Discussion and Vote on 2019 Business Meeting Calendar

F. Discussion and Vote on Fiscal Year 2019 Program Planning

G. Discussion and Vote on Fiscal Year 2020 Program Planning for Statutory Enforcement Report

H. Discussion and Vote on Commission's Oregon Advisory Committee Chair

I. Management and Operations

• Staff Director's Report

J. Presentation on Remembering Filipina/o American History & Its Intersection with Civil Rights

• Dawn Bohulano Mabalon, Ph.D., Associate Professor of History, San Francisco State University

III. Adjourn Meeting

Dated: August 7, 2018.
Brian Walch,
Director, Communications and Public Engagement.

[FR Doc. 2018-17238 Filed 8-8-18; 11:15 am]

BILLING CODE 6335-01-P